DEPARTMENT OF AGRICULTURE

Animal and Plant Health Inspection Service

[Docket No. 01-034-1]

RIN 0579-AB30

Draft Action Plan for the Noxious Weeds Program

AGENCY: Animal and Plant Health Inspection Service, USDA.

ACTION: Notice of availability and request for comments.

SUMMARY: We are requesting comments on a draft document titled “Draft Action Plan for the Noxious Weeds Program” that we have developed. The draft document recommends specific changes to the noxious weeds regulatory program, including changes to the noxious weeds regulations. Because these recommendations may form the basis for future rulemaking, we are requesting public comments on the draft document so that we may consider any relevant public input before taking further action.

DATES: We invite you to comment on the draft document. We will consider all comments that we receive by March 29, 2002.

ADDRESSES: Please send four copies of your comment (an original and three copies) to: Docket No. 01-034-1, Regulatory Analysis and Development, PPD, APHIS, Suite 3C03, 4700 River Road, Unit 118, Riverdale, MD 20737-1238.

Please state that your comment refers to Docket No. 01-034-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

You may request a copy of the “Draft Action Plan for the Noxious Weeds Program” by writing to the person listed under FOR FURTHER INFORMATION CONTACT. The draft action plan is also available in our reading room or on the Internet through APHIS' Noxious Weeds Home Page at http://www.aphis.usda.gov:80/ppq/weeds/weedhome.html.

FOR FURTHER INFORMATION CONTACT: Dr. Alan V. Tasker, Noxious Weeds Program Coordinator, Invasive Species and Pest Management, PPQ, APHIS, 4700 River Road Unit 134, Riverdale, MD 20737-1237; (301) 734-5225.

SUPPLEMENTARY INFORMATION: The Plant Protection Act (7 U.S.C. 7701-7772) authorizes the Secretary of Agriculture to prohibit or restrict the importation into the United States, and the interstate movement within the United States, of any plants and plant products to prevent the introduction into and dissemination in the United States of noxious weeds. Under this authority, the Animal and Plant Health Inspection Service (APHIS) administers the noxious weeds regulations in 7 CFR part 360 (referred to below as the regulations), which prohibit or restrict the importation and interstate movement of noxious weeds.

On March 20, 2000, we published in the Federal Register (65 FR 14927-14931, Docket No. 98-064-1) an advance notice of proposed rulemaking (ANPR) to gain information on ways in which we can increase the effectiveness of our noxious weeds regulatory program and regulations. We solicited comments on the ANPR for 90 days, ending June 19, 2000. By that date, we received 272 comments. They were from State departments of agriculture, representatives of the seed and nursery stock industries, and other interested persons. The commenters provided suggestions on weed categories and risk assessment and permitting issues, and offered recommendations for prioritizing funding resources for existing and future noxious weeds programs. The commenters most frequently recommended that the following areas be priorities for our noxious weeds program: Exclusion, prevention, survey and early detection, and eradication of introduced weeds of limited distribution. The commenters also supported, but mentioned less frequently, risk assessment, public education, and cooperative integrated management, including biological control.

Immediately following the close of the comment period for our March 2, 2000, ANPR, the Plant Protection Act was signed into law. The Plant Protection Act repealed portions of the Federal Noxious Weed Act (7 U.S.C. 2801 [except 2801 note]-2813) and now provides us greater authority to regulate the importation and interstate movement of noxious weeds. The Plant Protection Act and its effect on our noxious weeds program are discussed in greater detail in the draft action plan. Many of the comments we received on the ANPR are relevant to the development of regulations under our new authority.

Based on those comments, we developed the draft document titled “Draft Action Plan for the Noxious Weeds Program.” The draft document presents a draft plan for addressing the commenters' areas of concern and reflects our current thinking on the changes necessary to improve the design and conduct of the noxious weeds program. However, the draft document does not commit APHIS to making any changes to the noxious weeds regulations.

We are seeking public comment on the draft action plan. Public comments will help us decide whether the plan outlined in the draft document is needed and would be effective. We ask that comments on the draft action plan also suggest alternative approaches to updating our noxious weeds program, if appropriate. If, after we consider public comments on the draft document, we decide to propose changes to the noxious weeds regulations, we will publish a proposed rule in the Federal Register.

This action has been determined to be significant for the purposes of Executive Order 12866 and, therefore, has been reviewed by the Office of Management and Budget.

Authority: 7 U.S.C. 7701-7772.

Done in Washington, DC, this 23rd day of January 2002.
Bill Hawks,
Under Secretary for Marketing and Regulatory Programs.

[FR Doc. 02-2018 Filed 1-25-02; 8:45 am]

BILLING CODE 3410-34-U